DEPARTMENT OF TRANSPORTATION

Coast Guard

46 CFR Parts 71, 115, 126, 167, 169 and 176

[USCG-2000-6858]

RIN 2115-AF95

Alternate Hull Examination Program for Certain Passenger Vessels, and Underwater Surveys for Nautical School, Offshore Supply, Passenger and Sailing School Vessels; Correction

AGENCY: Coast Guard, DOT.

ACTION: Interim rule; announcement of effective date; correction.

SUMMARY: This document contains a correction to the interim rule; announcement of effective date published in the Federal Register on August 28, 2002, which announced the approval of a collection-of-information requirement for vessel owners or operators to send applications, hull exam reports, hull condition assessments, and preventative maintenance plans to the Coast Guard in order to participate in the Alternative Hull Exam and UWILD Programs.

DATES: This correction to the interim rule is effective on October 18, 2002.

FOR FURTHER INFORMATION CONTACT: Don Darcy, Office of Standards Evaluation and Development (G-MSR), Coast Guard, 202-267-1200.

SUPPLEMENTARY INFORMATION:

Need for the Correction

As published, the interim rule; announcement of effective date contains typographical errors and omissions that may prove to be misleading and therefore needs correction.

Correction

In rule FR Doc. 02-21983 published on August 28, 2002, (67 FR 55162) make the following corrections:

On page 55162, in the second column, in the DATES section, following “126.140(g)(3);”, remove the first “176.615(c),” and, in its place, add, in numerical order, “167.15-33(b) and 167.15-33(c); 169.230(b) and 169.230(c); 176.615(b),”.

Dated: October 3, 2002.
Joseph J. Angelo,
Director of Standards, Marine Safety, Security & Environmental, Protection.

[FR Doc. 02-26461 Filed 10-17-02; 8:45 am]

BILLING CODE 4910-15-P